DEPARTMENT OF THE INTERIOR

National Park Service

Environmental Impact Statement for Hunting on the Cape Cod National Seashore

AGENCY: National Park Service, Interior.

ACTION: Information on public scoping.

The National Park Service (NPS) is preparing an Environmental Impact Statement (EIS) assessing hunting policy and potential alternatives and their effects on natural resources, user conflicts, socioeconomics, and social aspects of the Cape Cod National Seashore. There will be several public scoping meetings held during June and July 2004. The public scoping period will end July 30, 2004. Scoping meetings will be announced locally via news media and notices to local libraries. Written comments should be addressed to Superintendent, Cape Cod National Seashore, 99 Marconi Site Road, Wellfleet, MA 02667.

Dated: June 30, 2004.
Michael B. Murray,
Acting Superintendent.

[FR Doc. 04-16153 Filed 7-15-04; 8:45 am]

BILLING CODE 4312-52-P